NATIONAL SCIENCE FOUNDATION

Notice of Intent To Extend an Information Collection

AGENCY: National Science Foundation.

ACTION: Notice and Request for Comments.

SUMMARY: Under the Paperwork Reduction Act of 1995, Public Law 104-13 (44 U.S.C. 3501 et seq.), and as part of its continuing effort to reduce paperwork and respondent burden, the National Science Foundation (NSF) is inviting the general public or other Federal agencies to comment on this proposed continuing information collection. The NSF will publish periodic summaries of proposed projects.

Comments: Comments are invited on: (a) Whether the proposed collection of information is necessary for the proper performance of the functions of the agency, including whether the information shall have practical utility; (b) the accuracy of the agency's estimate of the burden of the proposed collection of information; (c) ways to enhance the quality, utility, and clarity of the information to be collected; and (d) ways to minimize the burden of the collection of information on those who are to respond, including through the use of automated collection techniques or other forms of information technology.

DATES: Written comments on this notice must be received by January 23, 2015 to be assured consideration. Comments received after that date will be considered to the extent practicable. Send comments to address below.

For Additional Information or Comments: Suzanne H. Plimpton, Reports Clearance Officer, National Science Foundation, 4201 Wilson Boulevard, Suite 1265, Arlington, Virginia 22230; telephone (703) 292-7556; or send email to splimpto@nsf.gov. Individuals who use a telecommunications device for the deaf (TDD) may call the Federal Information Relay Service (FIRS) at 1-800-877-8339, which is accessible 24 hours a day, 7 days a week, 365 days a year (including Federal holidays).

SUPPLEMENTARY INFORMATION: Title of Collection: Survey of Earned Doctorates.

OMB Approval Number: 3145-0019.

Expiration Date of Approval: June 30, 2016.

Type of Request: Intent to seek approval to extend an information collection for three years.

1. Abstract: Established within the National Science Foundation by the America COMPETES Reauthorization Act of 2010 § 505, codified in the National Science Foundation Act of 1950, as amended, the National Center for Science and Engineering Statistics (NCSES) serves as a central Federal clearinghouse for the collection, interpretation, analysis, and dissemination of objective data on science, engineering, technology, and research and development for use by practitioners, researchers, policymakers, and the public. The Survey of Earned Doctorates (SED) is part of an integrated survey system that collects data on individuals in an effort to provide information on science and engineering education and careers in the United States.

The SED has been conducted annually since 1958 and is jointly sponsored by six Federal agencies (the National Science Foundation, National Institutes of Health, U.S. Department of Education, U.S. Department of Agriculture, National Endowment for the Humanities, and National Aeronautics and Space Administration) in order to avoid duplication. It is an accurate, timely source of information on one of our Nation's most important resources—highly educated individuals. Data are obtained via Web survey or paper questionnaire from each person earning a research doctorate at the time they receive the degree. Data are collected on their field of specialty, educational background, sources of support in graduate school, debt level, postgraduation plans for employment, and demographic characteristics.

The Federal government, universities, researchers, and others use the information extensively. The National Science Foundation, as the lead agency, publishes statistics from the survey in several reports, but primarily in the annual publication series, “Doctorate Recipients from U.S. Universities.” These reports are available on the NSF Web site.

The survey will be collected in conformance with the Privacy Act of 1974. Responses from individuals are voluntary. NSF will ensure that all individually identifiable information collected will be kept strictly confidential and will be used for research or statistical purposes, analyzing data, and preparing scientific reports and articles.

2. Expected Respondents: A total response rate of 92% of the 51,008 persons who earned a research doctorate was obtained in academic year 2012. This level of response rate has been consistent for several years. Based on the historical trend, in 2016 approximately 56,000 individuals are expected to receive research doctorates from U.S. institutions. Using the past response rate, the number of respondents in 2016 is estimated to be 51,520 (56,000 doctorate recipients × 0.92 response rate). Similarly, the number of individuals expected to earn research doctorates in 2017 is estimated to be about 57,000; hence, the number of respondents in 2017 is estimated to be 52,440 (57,000 × 0.92).

3. Estimate of Burden: The Foundation estimates that, on average, 20 minutes per respondent will be required to complete the survey. The annual respondent burden for completing the SED is therefore estimated at 17,173 hours in 2016 (51,520 respondents × 20 minutes) and 17,480 hours in 2017 (based on 52,440 respondents).

In addition to the actual survey, the SED requires the collection of administrative data from participating academic institutions. The Institutional Coordinator at the institution helps distribute the Web survey link (and paper surveys when necessary), track survey completions, and submit information to the SED survey contractor. Based on focus groups conducted with Institutional Coordinators, it is estimated that the SED demands no more than 1% of the Institutional Coordinator's time over the course of a year, which computes to 20 hours per year per Institutional Coordinator (40 hours per week × 50 weeks per year × .01). With about 570 programs expected to participate in the SED in 2016 and 2017, the estimated annual burden to Institutional Coordinators of administering the SED is 11,400 hours.

Therefore, the total annual information burden for the SED is estimated to be 28,573 hours in 2016 (17,173 + 11,400) and 28,880 hours in 2017 (17,480 + 11,400). This is higher than the last annual estimate approved by OMB due to the increased number of respondents (doctorate recipients).

Dated: November 18, 2014.
Suzanne H. Plimpton,
Reports Clearance Officer, National Science Foundation.

[FR Doc. 2014-27654 Filed 11-21-14; 8:45 am]

BILLING CODE 7555-01-P